DEPARTMENT OF JUSTICE

Office of Justice Programs

[OMB Number 1121-0334]

Agency Information Collection Activities; Proposed Collection Comments Requested; Reinstatement, With Change, of a Previously Approved Collection for Which Approval Has Expired: 2021 Survey of Campus Law Enforcement Agencies (SCLEA)

AGENCY: Office of Justice Programs, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. The proposed information collection was previously published in the Federal Register, Volume 86, Number 94, page 26944 on Tuesday, May 18, 2021, allowing a 60-day comment period. Following publication of the 60-day notice, BJS did not receive any comments on the proposed information collection.

DATES: Comments are encouraged and will be accepted for 30 days until August 23, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this Information Collection

(1) Type of Information Collection: Reinstatement of the Survey of Campus Law Enforcement Agencies (SCLEA), with changes, a previously approved collection for which approval has expired.

(2) The Title of the Form/Collection: 2021 Survey of Campus Law Enforcement Agencies (SCLEA).

(3) The agency form number, if any, and the applicable component of the Department sponsoring the collection: The form number for the questionnaire is CJ-42. The applicable component within the Department of Justice is the Bureau of Justice Statistics, in the Office of Justice Programs.

(4) Affected public who will be asked or required to respond, as well as a brief abstract: Respondents will be campus law enforcement agencies (LEAs) serving public and private 2- and 4-year postsecondary educational institutions with a full-time enrollment of 1,000 or more students. Periodically since 1995, BJS has collected information about the personnel, policies, and practices of campus law enforcement agencies via the Survey of Campus Law Enforcement Agencies (SCLEA). This survey has been used to produce nationally representative estimates on campus law enforcement personnel, duties, administration, technology, officer selection, officer training, equipment, and jurisdiction. The survey instrument was reviewed by practitioners and subject matter experts to update it from the 2011 form and ensure it covers current topics of interest to campus law enforcement while reducing respondent burden. BJS plans to publish the information collected in a report and archive the data for public use.

(5) An estimate of the total number of respondents and the amount of time estimated for an average respondent to respond: An agency-level survey will be sent to approximately 1,860 campus LEA respondents. The expected burden placed on these respondents is about 1 hour per respondent.

(6) An estimate of the total public burden (in hours) associated with the collection: There is an estimated 1,860 total burden hours associated with this collection.

If additional information is required contact: Melody Braswell, Department Clearance Officer, United States Department of Justice, Justice Management Division, Policy and Planning Staff, Two Constitution Square, 145 N Street NE, 3E.405A, Washington, DC 20530.

Dated: July 20, 2021.
Melody Braswell,
Department Clearance Officer for PRA, U.S. Department of Justice.

[FR Doc. 2021-15716 Filed 7-22-21; 8:45 am]

BILLING CODE 4410-18-P